ENVIRONMENTAL PROTECTION AGENCY

[FRL-7610-8]

Environmental Laboratory Advisory Board (ELAB) Meeting Dates, and Agenda

AGENCY: Environmental Protection Agency (EPA).

ACTION: Notice of teleconference meeting.

SUMMARY: The Environmental Protection Agency's Environmental Laboratory Advisory Board (ELAB) will have teleconference meetings on January 21, 2004 at 1 p.m. e.t.; February 18, 2004 at 1 p.m. e.t.; March 17, 2004 at 1 p.m. e.t.; April 21, 2004 at 1 p.m. e.t.; May 19, 2004 at 1 p.m. e.t.; and June 16, 2004 at 1 p.m. e.t. to discuss ideas and views presented at the previous ELAB meetings, as well as new business. Items to be discussed by ELAB over these coming meetings include: the need to increase the participation of laboratories in NELAC; how to ensure the competency of laboratories involved in homeland security responses; environmental measurement issues; implementation of the performance approach to environmental monitoring; and increasing the value of NELAC accreditation. In addition to these teleconferences, ELAB will be hosting a one hour face-to-face open forum only to hear issues the general public would like to raise for ELAB's consideration. The meeting will be from 5:30 p.m.-6:30 p.m. c.t. on January 27, 2004 at the Westin City Center in Dallas, TX. This open forum meeting will be followed by a regular meeting of ELAB on January 28, 2004 from 3 p.m.-5 p.m. c.t. at the Westin City Center in Dallas, TX. Written comments on laboratory accreditation and the NELAC standards are encouraged and should be sent to Ms. Lara P. Autry, Designated Federal Official, U.S. EPA (E243-05), 109 T.W. Alexander Drive, Research Triangle Park, NC 27709, faxed to (919) 541-4261, or e-mailed to: autry.lara@epa.gov. Members of the public are invited to listen to the teleconference calls, and time permitting, will be allowed to comment on issues discussed during regular ELAB meetings. Those persons interested in attending should call Lara P. Autry at (919) 541-5544 to obtain teleconference information. The number of lines for the teleconferences, however, are limited and will be distributed on a first come, first serve basis. Preference will be given to groups wishing to attend over requests from individuals.

Paul Gilman,
Assistant Administrator, Office of Research and Development.

[FR Doc. 04-1046 Filed 1-15-04; 8:45 am]

BILLING CODE 6560-50-P